DEPARTMENT OF ENERGY

Federal Energy Regulatory Commission

[Docket No. RP07-535-000]

Northern Natural Gas Company; Notice of Petition for Limited Waiver of Tariff Provisions

July 24, 2007.

Take notice that on July 20, 2007, Northern Natural Gas Company (Northern) tendered for filing a petition to the Commission for a limited waiver of its FERC Gas Tariff in order to allow Northern to resolve prior-period imbalance trading errors by retroactively adjustment imbalance levels for Tenaska Marketing Ventures, Northwestern Energy Corporation, and Wisconsin Power and Light Company to reflect imbalance trades which were agreed to but erroneously not communicated.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time August 3, 2007.

Kimberly D. Bose,
Secretary.

[FR Doc. E7-14746 Filed 7-30-07; 8:45 am]

BILLING CODE 6717-01-P